DEPARTMENT OF ENERGY

Federal Energy Regulatory Commission

Notice of Application for Surrender of Minor Project License and Soliciting Comments, Motions to Intervene, and Protests

June 20, 2002.

Take notice that the following hydroelectric application has been filed with the Commission and is available for public inspection:

a. Application Type: Surrender of Minor Project License

b. Project No.: P-4021

c. Date Filed : June 18, 2002

d. Applicant: Buck Creek Corporation

e. Name of Project: Lake Tahoma Hydroelectric Project

f. Location: The project is located on Buck Creek, a tributary to the South Fork Catawba River, a navigable waterway of the United States, near the City of Marion, McDowell County, North Carolina. This project does not utilize Federal or Tribal lands.

g. Filed Pursuant to: Federal Power Act, 16 U.S.C. 791(a)-825(r)

h. Applicant Contact: B. Dan Marks, Ph.D., P.E., C/o Marks Enterprises of NC, PLLC, One Palatka Drive, Arden, North Carolina 28704, (828) 684-9804

i. FERC Contact: Shannon Dunn at shannon.dunn@ferc.gov, or telephone (202) 208-0853.

j. Cooperating agencies: We are asking Federal, state, local, and tribal agencies with jurisdiction and/or special expertise with respect to environmental issues to cooperate with us in the preparation of the environmental document. Agencies who would like to request cooperating status should follow the instructions for filing comments described in item k below.

k. Deadline for filing comments, motions, or protests and requests for cooperating agency status: July 24, 2002

All documents (original and eight copies) should be filed with: Magalie R. Salas, Secretary, Federal Energy Regulatory Commission, 888 First Street, NE, Washington, DC 20426. Comments, protests and interventions may be filed electronically via the Internet in lieu of paper; see 18 CFR 385.2001(a)(1)(iii) and the instructions on the Commission's web site under the “e-Filing” link.

Please include the project number (P-4021) on any comments or motions filed.

l. Description of Project: Buck Creek Corporation, licensee for the Lake Tahoma Hydroelectric Project (Project), requests to surrender its minor project license for the existing, non-operational Project.

m. Locations of the application: A copy of the application is available for inspection and reproduction at the Commission's Public Reference Room, located at 888 First Street, NE, Room 2A, Washington, DC 20426, or by calling (202) 208-1371. The application may be viewed on the web at www.ferc.gov. Call (202) 208-2222 for assistance. A copy is also available for inspection and reproduction at the address in item h above.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-16113 Filed 6-25-02; 8:45 am]

BILLING CODE 6717-01-P